CONSUMER PRODUCT SAFETY COMMISSION

16 CFR Chapter II

[Docket No. CPSC-2016-2019]

Labeling of Certain Household Products Containing Methylene Chloride; Supplemental Guidance; Correction

AGENCY: Consumer Product Safety Commission.

ACTION: Guidance; correction.

SUMMARY: The Consumer Product Safety Commission is correcting supplemental guidance on the Labeling of Certain Household Products Containing Methylene Chloride, which appeared in the Federal Register of March 21, 2018. The document provides guidance regarding labeling to warn of acute hazards associated with paint strippers containing methylene chloride. This correction provides the appropriate link to the petition briefing package and the format of a warning label.

DATES: This correction is effective April 26, 2018. As established in the supplemental guidance, the guidance document became applicable on the date of its publication in the Federal Register, March 21, 2018.

FOR FURTHER INFORMATION CONTACT: Carol Afflerbach, Office of Compliance and Field Operations, U.S. Consumer Product Safety Commission, 4330 East-West Highway, Bethesda, MD 20814; email: cafflerbach@cpsc.gov; telephone: (301) 504-7529.

SUPPLEMENTARY INFORMATION: In FR Doc. 2018-05580, appearing on page 12254 in the Federal Register of March 21, 2018, the following corrections are made:

1. On page 12255, in the middle column, correct the link at the end of the first paragraph to read as follows: “(https://www.cpsc.gov/s3fs-public/Petition%20HP%2016-1%20to%20Amend%20Statement%20of%20Interpretation%20and%20Enforcement%20Policy%20Household%20Products%20Containing%20Methylene%20Chloride%20-%20May%2026%202017.pdf?5OEQaiEtuOaf0ytaU.z3.n4Lz5t0ku_J).”

2. On page 12257, in the third column, correct the format of the “Updated Example of Cautionary Labeling” to read as follows:

Alberta E. Mills,
Secretary, Consumer Product Safety Commission.

[FR Doc. 2018-08742 Filed 4-25-18; 8:45 am]

BILLING CODE 6355-01-P